DEPARTMENT OF COMMERCE

National Oceanic and Atmospheric Administration

[I.D. 071703A]

Fisheries of the Caribbean, Gulf of Mexico, and South Atlantic; Reef Fish Fishery of the Gulf of Mexico; Coastal Migratory Pelagic Resources of the Gulf of Mexico and South Atlantic; Exempted Fishing Permit

AGENCY: National Marine Fisheries Service (NMFS), National Oceanic and Atmospheric Administration (NOAA), Commerce.

ACTION: Disapproval of an exempted fishing permit(EFP).

SUMMARY: NMFS announces that it has disapproved the request for an exempted fishing permit (EFP) from Florida Offshore Aquaculture, Inc., of Madeira Beach, FL. The EFP would have authorized a 24-month feasibility study for net cage culture of cobia, mahi-mahi, greater amberjack, Florida pompano, red snapper and cubera snapper at a site approximately 33 statute miles (53 km) WSW. of Johns Pass, FL.

FOR FURTHER INFORMATION CONTACT: Peter Eldridge, 727-570-5305; fax: 727-570-5583; e-mail: peter.eldridge@noaa.gov.

SUPPLEMENTARY INFORMATION: The EFP was requested under the authority of the Magnuson-Stevens Fishery Conservation and Management Act (16 U.S.C. 1801 et seq.), and regulations at 50 CFR 600.745(b), concerning scientific research activity, exempted fishing permits, and exempted educational activity.

Florida Offshore Aquaculture, Inc., requested an EFP to determine the feasibility of raising fish in the exclusive economic zone approximately 33 miles (53 km) WSW. of Johns Pass, FL. Initially, the project intended to raise juvenile cobia in four cages during the first year. The applicant intended to expand the project to eight cages with cobia, mahi-mahi, greater amberjack, Florida pompano, red snapper and cubera snapper. The applicant stated that disease-free fingerlings would be obtained from the Aquaculture Center of the Florida Keys (59300 Overseas Highway, Marathon, FL, phone (305) 743-6135) and the Marine Science Institute of the University of Texas (750 Channel View Drive, Port Aransas, TX, phone (361) 749-6795). Further, the applicant stated that the brood stock and their spawn would be genetically tagged using the satellite DNA method.

On July 30, 2003, NMFS published in the Federal Register a notice of receipt of an application for an exempted fishing permit with a request for comments on the EFP (68 FR 44745). During the public comment period, 340 individuals opposed the granting of the EFP. In addition, one shrimp firm opposed the EFP because it would disrupt their operations. Six environmental organizations opposed granting the EFP and stated that an Environmental Impact Statement (EIS) rather than an Environmental Assessment (EA) should be prepared for this project. In July 2003, the Florida Department of Environmental Protection (FDEP) expressed concerns about the EA and requested that the EA be revised to reflect their concerns. The Florida Department of Agriculture and Consumer Services supported the permit application.

Consistent with the requirements of 50 CFR 600.745(b)(3)(i), NMFS provided copies of the EFP application and information to the State of Florida, the Gulf of Mexico Fishery Management Council (Council), the U.S. Coast Guard (Coast Guard), and Region 4 of the Environmental Protection Agency (EPA) along with information on the EFP's effects on target species.

The Council considered the EFP request at its September 2003 meeting, and strongly recommended that the EFP for Florida Offshore Aquaculture, Inc. be denied. The Coast Guard and the EPA did not respond to the NMFS request for comments. On October 27, 2003, the Florida Department of Environmental Protection commented that the revised EA lacked adequate information pertaining to the environmental effects of caged aquaculture operations in warm waters, particularly the Gulf of Mexico, and the potential for short- and long-term environmental impacts due to expansion of the facility. Also, they stated that the precedent setting nature of the proposed action warrants a thorough evaluation under the National Environmental Policy Act.

The major issues of concern, as indicated by the Council, environmental organizations, and individuals, included: (1) the applicant made false statements in connection with the application; (2) which vessel would be used for transporting feed and fish to and from the cages; (3) who would conduct the DNA fingerprinting that would allow tracking of the aquaculture fish throughout their sale; (4) possible escapement and its impact on wild stocks; (5) the type of food used for feeding; (6) possible transfer of diseases to wild fish; (7) timing of cage placement offshore; (8) timing of acquiring fingerlings; (9) the expertise and ability of the applicant to undertake the endeavor; (10) associated penalties for violating the EFP; (11) who is responsible for any environmental damage; (12) staff expertise on treating disease; (13) how disease outbreaks would be treated; (14) liability and environmental insurance; (15) paper trail on aquacultured fish throughout the marketing chain; (16) possible conflicts or impacts on or with other fishing activities; (17) possible interactions of wild fish or other organisms with the cages; (18) response to storm events; (19) why a smaller number of cages will not be used if this is a feasibility study; and (20) the range of species for possible stocking.

Given the inexperience of the applicant and the false information in the application, it appears that the applicant lacks the capability to comply with the conditions of the EFP. It is likely that the project could impact significantly the surrounding habitat and marine fishery resources. Virtually all of the agencies and environmental organizations stated that the proposed action required either an EIS or a thorough analysis of the environmental impacts. Given the precedent setting nature of the action, NMFS concurs that the proposed action warrants an EIS.

The Council is developing a generic amendment and an EIS to determine the feasibility of conducting and regulating aquaculture projects in Federal waters in the Gulf of Mexico. This effort is expected to be completed within 2 years. This process will result in extensive public input and appears necessary to ensure that no unanticipated consequences will result from proposed future aquaculture projects. NMFS will work with the Council and support the development of the generic amendment and EIS.

Given the precedent setting nature of the project and the need for full public input into the process, especially the need for an EIS, NMFS believes that it is premature to grant an EFP at this time. Rather, applicants should work closely with the Council to develop appropriate procedures for establishing and maintaining future aquaculture projects in Federal waters. Thus, NMFS denies the application for an EFP.

Authority: 16 U.S.C. 1801 et seq.

Dated: December 17, 2003.
Bruce C. Morehead,
Acting Director, Office of Sustainable Fisheries, National Marine Fisheries Service.

[FR Doc. 03-31611 Filed 12-22-03; 8:45 am]

BILLING CODE 3510-22-S